DEPARTMENT OF LABOR

Employment and Training Administration

Agency Information Collection Activities; Comment Request; Petition Requirements and Investigative Data Collection: Trade Act of 1974, as Amended

ACTION: Notice.

SUMMARY: The Department of Labor's (DOL) Employment and Training Administration (ETA) is soliciting comments concerning a proposed extension for the authority to conduct the information collection request (ICR) titled, “Petition Requirements and Investigative Data Collection: Trade Act of 1974, as Amended.” This comment request is part of continuing Departmental efforts to reduce paperwork and respondent burden in accordance with the Paperwork Reduction Act of 1995 (PRA).

DATES: Consideration will be given to all written comments received by July 5, 2022.

ADDRESSES: A copy of this ICR with applicable supporting documentation, including a description of the likely respondents, proposed frequency of response, and estimated total burden, may be obtained free by contacting Timothy Theberge, Office of Trade Adjustment Assistance, Room N-5428, Employment and Training Administration, U.S. Department of Labor, 200 Constitution Avenue NW, Washington, DC 20210, by telephone at 202-693-3401 (this is not a toll-free number), TTY 1-877-889-5627 (this is not a toll-free number), or by email at theberge.timothy@dol.gov.

Submit written comments about, or requests for a copy of, this ICR by mail or courier to the U.S. Department of Labor, Employment and Training Administration, Office of Trade Adjustment Assistance, Room N-5428, 200 Constitution Avenue NW, Washington, DC 20210; by email: theberge.timothy@dol.gov; or by fax 202-693-3584.

FOR FURTHER INFORMATION CONTACT: Timothy Theberge by telephone at 202-693-3401 (this is not a toll-free number) or by email at theberge.timothy@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 221(a) of Title II, Chapter 2 of the Trade Act of 1974, as amended by the Trade Adjustment Assistance Reauthorization Act of 2015, authorizes the Secretary of Labor and the Governor of each state to accept petitions for certification of eligibility to apply for adjustment assistance. The petitions may be filed by a group of workers, their certified or recognized union or duly authorized representative, employers of such workers, one-stop operators, or one-stop partners. ETA Form 9042, Petition for Trade Adjustment Assistance, and its Spanish translation, ETA Form 9042A, Solicitud De Asistencia Para Ajuste, establish a format that may be used for filing such petitions. There is also a web-based version of the ETA Form 9042.

Sections 222, 223, and 249 of the Trade Act of 1974, as amended, require the Secretary of Labor (the Secretary) to issue a determination for groups of workers as to their eligibility to apply for adjustment assistance. After reviewing all of the information obtained for each petition for Trade Adjustment Assistance filed with the Department, a determination is issued as to whether the statutory criteria for certification are met. The information collected via the following forms will be used by the Secretary to determine to what extent, if any, increased imports or shifts in either service or production have impacted the petitioning worker group.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0342.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension without changes.

Title of Collection: Petition Requirements and Investigative Data Collection: Trade Act of 1974, as Amended.

Form(s): ETA 9042A, Petition for Trade Adjustment Assistance, and its Spanish translation ETA 9042A; ETA-9043 Business Data Request; ETA-8562A Business Customer Survey; ETA-8562A-1 Business Customer Survey—Second Tier; ETA-8562A-2 Business Customer Survey—Foreign; ETA-8562A-3 Business Customer Survey—Anonymous; ETA-8562B Business Bid Survey; ETA-9118 Business Information Request; ETA-9185 Application for Reconsideration.

OMB Control Number: 1205-0342.

Affected Public: Individuals or Households, Businesses, State Governments.

Estimated Number of Respondents: 5,317.

Frequency: Varies.

Total Estimated Annual Responses: 5,497.

Estimated Average Time per Response: Varies.

Estimated Total Annual Burden Hours: 12,977.

Total Estimated Annual Other Cost Burden: $0.00.

Angela Hanks,
Acting Assistant Secretary, Labor.

[FR Doc. 2022-09668 Filed 5-4-22; 8:45 am]

BILLING CODE 4510-FN-P